FEDERAL ELECTION COMMISSION

Sunshine Act Notices

DATE AND TIME: Thursday, April 29, 2010, at 10 a.m.

PLACE: 999 E Street, NW., Washington, DC (ninth floor).

STATUS: This meeting will be open to the public.

ITEMS TO BE DISCUSSED: Correction and Approval of Minutes.

Final Rules and Explanation and Justification—Non-Federal Fundraising Events.

Draft Advisory Opinion 2010-04: Wawa, Inc., by Mark N. Suprenant, General Counsel and Secretary.

Draft Advisory Opinion 2010-03: National Democratic Redistricting Trust (NDRT), by Marc E. Elias and Kate S. Keane of Perkins Coie LLP, counsel.

Report of the Audit Division on the Tennessee Democratic Party (TDP).

Report of the Audit Division on Friends for Menor Committee.

Proposed Interim Enforcement Policy.

Management and Administrative Matters.

Individuals who plan to attend and require special assistance, such as sign language interpretation or other reasonable accommodations, should contact Darlene Harris, Acting Commission Secretary, at (202) 694-1040, at least 72 hours prior to the hearing date.

Person To Contact for Information: Judith Ingram, Press Officer, Telephone: (202) 694-1220.

Darlene Harris,
Acting Secretary of the Commission.

[FR Doc. 2010-9767 Filed 4-28-10; 8:45 am]

BILLING CODE 6715-01-M